DEPARTMENT OF HEALTH AND HUMAN SERVICES

National Institutes of Health

National Center for Research Resources; Notice of Meetings

Pursuant to section 10(d) of the Federal Advisory Committee Act, as amended (5 U.S.C. Appendix 2), notice is hereby given of the following meetings.

The meetings will be open to the public as indicated below, with attendance limited to space available. Individuals who plan to attend and need special assistance, such as sign language interpretation or other reasonable accommodations, should notify the Contact Person listed below in advance of the meeting.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Scientific and Technical Review Board on Biomedical and Behavioral Research Facilities.

Date: September 24-25, 2001.

Open: September 24, 2001, 8 a.m. to 9 a.m.

Agenda: To discuss program planning and other issues.

Place: DoubleTree Hotel, 1750 Rockville Pike, Rockville, MD 20852.

Closed: September 24, 2001, 9 a.m. to Adjournment.

Agenda: To review and evaluate grant applications.

Place: DoubleTree Hotel, 1750 Rockville Pike, Rockville, MD 20852.

Contact Person: D.G. Patel, PhD, Scientific Review Administrator, Office of Review, National Center for Research Resources, National Institutes of Health, 6705 Rockledge Drive, Room 6018, Bethesda, MD 20892-7965, (301) 435-0824, dgpatel@ncrr.nih.gov.

Name of Committee: National Center for Research Resources Initial Review Group, General Clinical Research Centers Review Committee.

Date: October 10-11, 2001.

Open: October 10, 2001 8 a.m. to 9:30 a.m.

Agenda: To discuss program planning and other issues.

Place: Holiday Inn-Chevy Chase, 5520 Wisconsin Avenue, Chevy Chase, MD 20815.

Closed: October 10, 2001, 9:30 a.m. to Adjournment.

Agenda: To review and evaluate grant applications.

Place: Holiday Inn-Chevy Chase, 5520 Wisconsin Avenue, Chevy Chase, MD 20815.

Contact Person: John L. Meyer, PhD, Deputy Director, Office of Review, National Center for Research Resources, National Institutes of Health, 6705 Rockledge Drive, MSC 7965, One Rockledge Centre, Room 6018, Bethesda, MD 20892-7965, 301-435-0806, meyerj@ncrr.nih.gov.

Name of Committee: National Center for Research Resources Initial Review Group, Comparative Medicine Review Committee.

Date: October 11-12, 2001.

Open: October 11, 2001, 8 a.m. to 9 a.m.

Agenda: To discuss program planning and other issues.

Place: Holiday Inn-Gaithersburg, 2 Montgomery Village Avenue, Gaithersburg, MD 20879.

Closed: October 11, 2001, 9 a.m. to Adjournment.

Agenda: To review and evaluate grant applications.

Place: Holiday Inn—Gaithersburg, 2 Montgomery Village Avenue, Gaithersburg, MD 20879.

Contact Person: Camille M. King, PhD, Scientific Review Administrator, Office of Review, National Center for Research Resources, National Institutes of Health, One Rockledge Centre, MSC 7965, 6705 Rockledge Drive, Suite 6018, Bethesda, MD 20892-7965, (301) 435-0815, kingc@ncrr.nih.gov.

Name of Committee: National Center for Research Resources Initial Review Group, Research Centers In Minority Institutions Review Committee.

Date: November 2, 2001.

Open: 8:00 a.m. to 9 a.m.

Agenda: To discuss program planning and other issues.

Place: Four Points by Sheraton Bethesda, 8400 Wisconsin Avenue, Bethesda, MD 20814.

Closed: 9 a.m. to Adjournment.

Agenda: To review and evaluate grant applications.

Place: Four Points by Sheraton Bethesda, 8400 Wisconsin Avenue, Bethesda, MD 20814.

Contact Person: C. William Angus, PhD, Scientific Review Administrator, Office of Review, National Center for Research Resources, 6705 Rockledge Drive, MSC 7965, Room 6018, Bethesda, MD 20892-7965, 301/435-0812, angusw@ncrr.nih.gov.

(Catalogue of Federal Domestic Assistance Program Nos. 93.306, Comparative Medicine, 93.306; 93.333, Clinical Research, 93.333; 93.371, Biomedical Technology; 93.389, Research Infrastructure, National Institutes of Health, HHS)

Dated: August 8, 2001.
LaVerne Y. Stringfield,
Director, Office of Federal Advisory Committee Policy.

[FR Doc. 01-20422 Filed 8-13-01; 8:45 am]

BILLING CODE 4140-01-M